DEPARTMENT OF TRANSPORTATION

Federal Aviation Administration

Approval of Noise Compatibility Program for San Francisco International Airport, San Mateo County, California

AGENCY: Federal Aviation Administration, DOT.

ACTION: Notice.

SUMMARY: The Federal Aviation Administration (FAA) announces its findings on the noise compatibility program submitted by the City and County of San Francisco, Airport Commission (Airport Commission), San Mateo County, California under the provisions of 49, United States Code (U.S.C.) (the Aviation Safety and Noise Abatement Act, hereinafter referred to as “the Act”) and 14 Code of Federal Regulations (CFR) Part 150 (hereinafter referred to as “Part 150”). These findings are made in recognition of the description of Federal and nonfederal responsibilities in Senate Report No. 96-52 (1990). On January 29, 2016, the FAA determined that the noise exposure map updates submitted by the Airport Commission under Part 150 were in compliance with applicable requirements. On April 1, 2019, the FAA approved the San Francisco International Airport, Airport Noise Compatibility Program (NCP) Update. The 3 (three) measures recommended in the NCP Update were approved. No program elements relating to new or revised flight procedures for noise abatement were proposed by the airport operator.

DATES: The effective date of the FAA's approval of the San Francisco International Airport noise compatibility program is April 1, 2019.

FOR FURTHER INFORMATION CONTACT: Camille Garibaldi, Environmental Protection Specialist, Federal Aviation Administration, San Francisco Airports District Office, 1000 Marina Boulevard, Suite 220, Brisbane, California 94005-7600. Telephone: 650-827-7613. Documents reflecting this FAA action may be reviewed at this same location.

SUPPLEMENTARY INFORMATION: This notice announces that the FAA has given its overall approval to the noise compatibility program for San Francisco International Airport, effective April 1, 2019.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Part 150 is a local program, not a Federal program. The FAA does not substitute its judgment for that of the airport proprietor with respect to which measures should be recommended for action. The FAA's approval or disapproval of Part 150 program recommendations is measured according to the standards expressed in Part 150 and the Act and is limited to the following determinations:

a. The noise compatibility program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, state, or local law. Approval does not by itself constitute an FAA implementing action. A request for Federal action or approval to implement specific noise compatibility measures may be required. Prior to an FAA decision on a request to implement the action, an environmental review of the proposed action may be required. Approval does not constitute a commitment by the FAA to financially assist in the implementation of the program nor a determination that all measures covered by the program are eligible for grant-in-aid funding from the FAA. Where Federal funding is sought, requests for project grants must be submitted to the FAA San Francisco Airports District Office in the Western-Pacific Region.

The Airport Commission submitted their noise compatibility program to the FAA on July 17, 2018, including the noise exposure maps, descriptions and other documentation produced during the noise compatibility planning study conducted from March 3, 2014 through October 18, 2018. The San Francisco International Airport noise exposure maps were determined by FAA to be in compliance with applicable requirements on January 29, 2016. Notice of this determination was published in the Federal Register (81 FR 7186) on February 10, 2016.

The noise exposure maps are based on operational data that is now over five years old. FAA received certification, in accordance with 14 CFR 150.21, that the noise exposure maps are representative of conditions at the airport for the existing and forecast timeframe as of the date of August 2015. Due to the aircraft operational and fleet mix changes since 2015, at the airport, FAA recommends the Airport Commission review, revise, and update, as appropriate the future noise exposure maps under 14 CFR 150.21 at the earliest opportunity.

The San Francisco International Airport study contains a proposed noise compatibility program update comprised of actions designed for phased implementation by the Airport Commission through the year 2019. It was requested that the FAA evaluate and approve this material as a noise compatibility program as described in section 47504 of the Act. The FAA began its review of the program on October 26, 2018, and was required by a provision of the Act to approve or disapprove the program within 180 days (other than the use of new or modified flight procedures for noise control). Failure to approve or disapprove such program within the 180-day period shall be deemed to be an approval of such program.

The submitted program contained 3 (three) proposed measures for noise abatement, noise mitigation, and program management. The FAA completed its review and determined that the procedural and substantive requirements of the Act and Part 150 have been satisfied. The overall program was approved by the FAA, effective April 1, 2019.

Outright approval was granted for the 3 (three) program measures. The approved measures include: Noise Abatement Measure #1—Install Permanent or Portable Aircraft Noise and Operations Monitoring Equipment; Noise Mitigation Measure #1—Acoustical Treatment Program; and Program Management Measure—Review and Revision of the Noise Compatibility Program.

These determinations are set forth in detail in a Record of Approval signed by the Director, Office of Airports, Western-Pacific Region on April 1, 2019. The Record of Approval, as well as other evaluation materials and the documents comprising the submittal, are available for review at the FAA office listed above and at the administrative offices of the Airport Commission.

The Record of Approval also will be available on-line at: http://www.faa.gov/airports/environmental/airport_noise/part_150/states/.

Issued in El Segundo, California on May 6, 2019.
Arlene B. Draper,
Acting Director, Office of Airports, Western-Pacific Region.

[FR Doc. 2019-09956 Filed 5-16-19; 8:45 am]

BILLING CODE 4910-13-P